DEPARTMENT OF THE INTERIOR

Bureau of Land Management

[LLID9570000.LL14200000.BJ0000]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat constituting the entire survey record of the dependent resurvey and the subdivision of sections 10 and 15, T. 14 N., R. 28 E., Boise Meridian, Idaho, Group Number 1332, was accepted April 27, 2011.

The plat constituting the entire survey record of the dependent resurvey and the subdivision of section 7, T. 13 N., R. 39 E., Boise Meridian, Idaho, Group Number 1329, was accepted April 27, 2011.

The field notes representing the remonumentation of the cor. of secs. 16, 17, 20, and 21, T. 8 N., R. 3 E., Boise Meridian, Idaho, Group Number 1000, was approved April 29, 2011.

The plats constituting the dependent resurvey of a portion of the east boundary, T. 34 N., R. 3 E., and the dependent resurvey of portions of the south boundary and subdivisional lines, T. 35 N., R. 3 E., Boise Meridian, Idaho, Group Number 1220, were accepted May 4, 2011.

The plat representing the dependent resurvey of a portion of the subdivisional lines and the 1910 meanders of the right bank of the Snake River in section 8, and the subdivision of sections 8 and 17, and the survey of the 2009-2010 meanders of the full pool elevation line of Brownlee Reservoir in section 8, T. 11 N., R. 7 W., Boise Meridian, Idaho, Group Number 1313, was accepted May 9, 2011.

The supplemental plats prepared to show amended lottings in secs. 12 and 13, T. 17 N., R. 4 W. and sec. 7, T. 17 N., R. 3 W., Boise Meridian, Idaho, Group Number 1341, were accepted June 24, 2011.

Dated: July 12, 2011.
Bruce E. Ogonowski,
Acting Chief Cadastral Surveyor for Idaho.

[FR Doc. 2011-18128 Filed 7-18-11; 8:45 am]

BILLING CODE 4310-GG-P